DEPARTMENT OF HEALTH AND HUMAN SERVICES

Food and Drug Administration

[Docket No. FDA-2016-N-0001]

The Sentinel Post-Licensure Rapid Immunization Safety Monitoring Program; Public Workshop; Correction

AGENCY: Food and Drug Administration, HHS.

ACTION: Notice of public workshop; correction.

SUMMARY: The Food and Drug Administration (FDA) is correcting a notice that appeared in the Federal Register of Thursday, September 1, 2016 (81 FR 60357). The document announced a public workshop entitled “The Sentinel Post-Licensure Rapid Immunization Safety Monitoring (PRISM) Program.” The document was published with a Web site that changed after the publication of the notice of the workshop. This document corrects that error.

FOR FURTHER INFORMATION CONTACT: Chris Nguyen, Center for Biologics Evaluation and Research, Food and Drug Administration, 10903 New Hampshire Ave., Bldg. 71, Rm. 4124, Silver Spring, MD 20993-0002; or Cynthia Whitmarsh, Center for Biologics Evaluation and Research, Food and Drug Administration, 10903 New Hampshire Ave., Bldg. 71, Rm. 4122, Silver Spring, MD 20993-0002.

SUPPLEMENTARY INFORMATION: In the Federal Register of September 1, 2016, in FR Doc. 2016-21046, on page 60357, the following correction is made:

On page 60357, in the third column under the SUPPLEMENTARY INFORMATION caption, the fifth sentence in the second paragraph is corrected to read “More information can be found at: https://www.sentinelsystem.org/vaccines-blood-biologics.”

Dated: October 20, 2016.
Leslie Kux,
Associate Commissioner for Policy.

[FR Doc. 2016-25853 Filed 10-25-16; 8:45 am]

BILLING CODE 4164-01-P